DEPARTMENT OF DEFENSE

Defense Acquisition Regulations System

48 CFR Parts 212, 227, and 252

[Docket DARS-2020-0033]

RIN 0750-AK84

Defense Federal Acquisition Regulation Supplement: Small Business Innovation Research Data Rights (DFARS Case 2019-D043); Correction

AGENCY: Defense Acquisition Regulations System, Department of Defense (DoD).

ACTION: Proposed rule; correction.

SUMMARY: DoD is correcting proposed regulations published in the Federal Register on December 19, 2022, regarding Small Business Innovation Research Data Rights. The document heading carried an incorrect Regulation Identifier Number. This document reflects the correct Regulation Identifier Number.

DATES: Comments on the proposed rule published on December 19, 2022, at 87 FR 77680, continue to be accepted on or before February 17, 2023, to be considered in the formation of a final rule.

ADDRESSES: Submit comments identified by DFARS Case 2019-D043, using any of the following methods:

• Federal eRulemaking Portal: https://www.regulations.gov. Search for “DFARS Case 2019-D043.” Select “Comment” and follow the instructions provided to submit a comment. Please include “DFARS Case 2019-D043” on any attached documents.

• Email: osd.dfars@mail.mil. Include DFARS Case 2019-D043 in the subject line of the message.

Comments received generally will be posted without change to https://www.regulations.gov, including any personal information provided. To confirm receipt of your comment(s), please check https://www.regulations.gov, approximately two to three days after submission to verify posting.

FOR FURTHER INFORMATION CONTACT: Ms. Jennifer D. Johnson, telephone 703-717-8226.

SUPPLEMENTARY INFORMATION: On December 19, 2022, DoD published a proposed rule in the Federal Register at 87 FR 77680 titled “Small Business Innovation Research Data Rights”. The document's heading on page 77680, in the first column, contained the incorrect Regulation Identifier Number (RIN) 0750-AK71. The correct RIN is “RIN 0750-AK84” and is in the heading of this correction.

Jennifer D. Johnson,
Editor/Publisher,Defense Acquisition Regulations System.

[FR Doc. 2022-27885 Filed 12-22-22; 8:45 am]

BILLING CODE 5001-06-P